DEPARTMENT OF ENERGY

Federal Energy Regulatory Commission

Combined Notice of Filings #2

Take notice that the Commission received the following electric rate filings:

Docket Numbers: ER10-2265-011; ER12-21-020; ER11-2211-009; ER11-2209-009; ER11-2210-009; ER11-2207-009; ER11-2206-009; ER13-1150-007; ER13-1151-007; ER11-2855-020; ER14-1818-011; ER10-2260-007; ER10-2261-007; ER10-2338-013; ER10-2340-013; ER13-1991-008; ER13-1992-008; ER11-3727-015; ER10-2262-006; ER11-2062-020; ER11-2508-019; ER11-4307-020; ER12-1711-015; ER12-261-019; ER10-2264-007; ER10-1581-017; ER10-2354-009; ER11-2107-011; ER11-2108-011; ER10-2888-020; ER13-1803-011; ER13-1790-011; ER13-1746-012; ER12-1525-015; ER12-2019-013; ER10-2266-006; ER12-2398-014; ER11-3459-014; ER11-4308-020; ER11-2805-019; ER11-2856-020; ER13-2107-010; ER13-2020-010; ER13-2050-010; ER11-2857-020; ER10-2359-008; ER10-2381-008.

Applicants: NRG Power Marketing LLC, Agua Caliente Solar, LLC, Alta Wind I, LLC, Alta Wind II, LLC, Alta Wind III, LLC, Alta Wind IV, LLC, Alta Wind V, LLC, Alta Wind X, LLC, Alta Wind XI, LLC, Avenal Park LLC, Boston Energy Trading and Marketing LLC, Cabrillo Power I LLC, Cabrillo Power II LLC, CP Power Sales Nineteen, L.L.C., CP Power Sales Twenty, L.L.C., Desert Sunlight 250, LLC, Desert Sunlight 300, LLC, El Segundo Energy Center LLC, El Segundo Power, LLC, Energy Plus Holdings LLC, GenOn Energy Management, LLC, Green Mountain Energy Company, High Plains Ranch II, LLC, Independence Energy Group LLC, Long Beach Generation LLC, Long Beach Peakers LLC, Midway-Sunset Cogeneration Company, North Community Turbines LLC, North Wind Turbines LLC, Norwalk Power LLC, NRG California South LP, NRG Delta LLC, NRG Marsh Landing LLC, NRG Solar Alpine LLC, NRG Solar Avra Valley LLC, NRG Solar Blythe LLC, NRG Solar Borrego I LLC, NRG Solar Roadrunner LLC, Reliant Energy Northeast LLC, RRI Energy Services, LLC, Sand Drag LLC, Solar Partners I, LLC, Solar Partners II, LLC, Solar Partners VIII, LLC, Sun City Project LLC, Sunrise Power Company, LLC, Walnut Creek Energy, LLC.

Description: Updated Market Power Analysis of the Southwest Region of NRG Power Marketing LLC, et al.

Filed Date: 6/30/16.

Accession Number: 20160630-5424.

Comments Due: 5 p.m. ET 8/29/16.

Docket Numbers: ER10-2464-011; ER13-1139-016; ER13-1585-010; ER10-2465-009; ER11-2657-010; ER14-2630-009.

Applicants: First Wind Energy Marketing, LLC, Imperial Valley Solar 1, LLC, Longfellow Wind, LLC, Milford Wind Corridor Phase I, LLC, Milford Wind Corridor Phase II, LLC, Regulus Solar, LLC.

Description: Market Power Update of First Wind Energy Marketing, LLC, et al.

Filed Date: 6/30/16.

Accession Number: 20160630-5418.

Comments Due: 5 p.m. ET 8/29/16.

Docket Numbers: ER10-3145-007; ER10-3116-007; ER10-3120-007; ER11-2036-007; ER13-1544-004; ER16-930-001; ER10-3128-007; ER10-1800-008; ER10-3136-007; ER11-2701-009; ER10-1728-007.

Applicants: AES Alamitos, LLC, AES Energy Storage, LLC, AES Laurel Mountain, LLC, AES Huntington Beach, L.L.C., AES ES Tait, LLC, AES Ohio Generation, LLC, AES Redondo Beach, L.L.C., Indianapolis Power and Light Company, Mountain View Power Partners, LLC, Mountain View Power Partners IV, LLC, The Dayton Power and Light Company.

Description: Triennial Market Power Analysis for Southwestern Region of AES MBR Affiliates, et al.

Filed Date: 6/30/16.

Accession Number: 20160630-5421.

Comments Due: 5 p.m. ET 8/29/16.

Docket Numbers: ER15-1218-004; ER15-2224-003; ER16-1154-003; ER16-1882-001.

Applicants: Solar Star California XIII, LLC, Solar Star Colorado III, LLC, Parrey, LLC, Boulder Solar Power, LLC.

Description: Notice of Non-Material of Change in Status of Solar Star California XIII, LLC, et al.

Filed Date: 6/30/16.

Accession Number: 20160630-5419.

Comments Due: 5 p.m. ET 7/21/16.

Docket Numbers: ER16-2119-000.

Applicants: Hartree Partners, LP.

Description: Baseline eTariff Filing: Hartree Partners, LP Baseline MBR Tariff to be effective 7/31/2016.

Filed Date: 7/1/16.

Accession Number: 20160701-5132.

Comments Due: 5 p.m. ET 7/22/16.

Docket Numbers: ER16-2120-000.

Applicants: Southwest Power Pool, Inc.

Description: Section 205(d) Rate Filing: 3125R2 Basin Electric Power Cooperative NITSA and NOA to be effective 6/1/2016.

Filed Date: 7/1/16.

Accession Number: 20160701-5137.

Comments Due: 5 p.m. ET 7/22/16.

Docket Numbers: ER16-2121-000.

Applicants: Southwest Power Pool, Inc.

Description: Section 205(d) Rate Filing: 1628R10 Western Farmers Electric Cooperative NITSA to be effective 6/1/2016.

Filed Date: 7/1/16.

Accession Number: 20160701-5138.

Comments Due: 5 p.m. ET 7/22/16.

Docket Numbers: ER16-2122-000.

Applicants: Sunshine Gas Producers, LLC.

Description: Section 205(d) Rate Filing: Sunshine MBR Revisions to be effective 7/5/2016.

Filed Date: 7/1/16.

Accession Number: 20160701-5141.

Comments Due: 5 p.m. ET 7/22/16.

Docket Numbers: ER16-2123-000.

Applicants: Duke Energy Progress, LLC, Duke Energy Carolinas, LLC.

Description: Section 205(d) Rate Filing: Loss Factor Filing DEC and DEP to be effective 8/1/2016.

Filed Date: 7/1/16.

Accession Number: 20160701-5143.

Comments Due: 5 p.m. ET 7/22/16.

Docket Numbers: ER16-2124-000.

Applicants: Entergy New Orleans, Inc.

Description: Section 205(d) Rate Filing: ENO-ELL Wholesale Distribution Service Agreement to be effective 9/1/2016.

Filed Date: 7/1/16.

Accession Number: 20160701-5145.

Comments Due: 5 p.m. ET 7/22/16.

Docket Numbers: ER16-2125-000.

Applicants: Entergy Louisiana, LLC.

Description: Section 205(d) Rate Filing: ELL-ENO Wholesale Distribution Service Agreement to be effective 9/1/2016.

Filed Date: 7/1/16.

Accession Number: 20160701-5146.

Comments Due: 5 p.m. ET 7/22/16.

Docket Numbers: ER16-2126-000.

Applicants: ISO New England Inc., New England Power Pool Participants Committee.

Description: Compliance filing: Revisions to ISO-NE Tariff in Compliance with Order Issued in EL16-38-000 to be effective 8/30/2016.

Filed Date: 7/1/16.

Accession Number: 20160701-5147.

Comments Due: 5 p.m. ET 7/22/16.

Docket Numbers: ER16-2127-000.

Applicants: New York State Electric & Gas Corporation.

Description: Section 205(d) Rate Filing: Rate Schedule FERC No. 87 Supplement to be effective 9/1/2016.

Filed Date: 7/1/16.

Accession Number: 20160701-5189.

Comments Due: 5 p.m. ET 7/22/16.

Docket Numbers: ER16-2128-000.

Applicants: New York State Electric & Gas Corporation.

Description: Section 205(d) Rate Filing: NYSEG-NYPA Attachment C—O&M Annual Update to be effective9/1/2016.

Filed Date: 7/1/16.

Accession Number: 20160701-5190.

Comments Due: 5 p.m. ET 7/22/16.

Docket Numbers: ER16-2129-000.

Applicants: Pacific Gas and Electric Company.

Description: Section 205(d) Rate Filing: Lathrop Irrigation District EA for 115 kV Interconnection Project to be effective 7/15/2016.

Filed Date: 7/1/16.

Accession Number: 20160701-5277.

Comments Due: 5 p.m. ET 7/22/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2016.
Nathaniel J. Davis, Sr.,
Deputy Secretary.

[FR Doc. 2016-16243 Filed 7-8-16; 8:45 am]

BILLING CODE 6717-01-P